FEDERAL RESERVE SYSTEM

Notice of Proposals To Engage in Permissible Nonbanking Activities or To Acquire Companies that Are Engaged in Permissible Nonbanking Activities

The companies listed in this notice have given notice under section 4 of the Bank Holding Company Act (12 U.S.C. 1843) (BHC Act) and Regulation Y (12 CFR Part 225), to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act.

Unless otherwise noted, comments regarding the applications must be received at the Reserve Bank indicated or the offices of the Board of Governors not later than February 16, 2000.

A. Federal Reserve Bank of New York (Betsy Buttrill White, Senior Vice President), 33 Liberty Street, New York, New York 10045-0001:

1. Canadian Imperial Bank of Commerce, The CIBC World Markets Corporation, and CIBC World Markets Inc., all of Toronto, Canada, and CIBC Delaware Holdings, Inc., New York, New York; to acquire St. Anthony Bank, F.S.B., Cicero, Illinois, and thereby engage in operating a federal savings bank, pursuant to § 225.28(b)(4) of Regulation Y. Comments regarding this application must be received not later than February 25, 2000.

B. Federal Reserve Bank of Cleveland (Paul Kaboth, Banking Supervision), 1455 East Sixth Street, Cleveland, Ohio 44101-2566:

1. Fifth Third Bancorp, Cincinnati, Ohio; to engage de novo through its subsidiary, Fifth Third Capital Funding, LLC, Cincinnati, Ohio, in certain commercial lending activities, pursuant to § 225.28(b)(1) of Regulation Y; see NationsBank Corp., 80 Fed. Res. Bull. 154 (1994); and Wells Fargo & Company, 82 Fed. Res. Bull. 165 (1996).

Board of Governors of the Federal Reserve System, January 27, 2000.
Robert deV. Frierson,
Associate Secretary of the Board.

[FR Doc. 00-2197 Filed 2-1-00; 8:45 am]

BILLING CODE 6210-01-P